DEPARTMENT OF COMMERCE

National Technical Information Service

[Docket No.: 160608001-5001-01]

Opportunity To Enter Into a Joint Venture With the National Technical Information Service for Data Innovation Support

AGENCY: National Technical Information Service, Department of Commerce.

ACTION: Notice.

SUMMARY: The National Technical Information Service (NTIS) requests proposals from interested for-profit, non-profit, or research performing service organizations to enter into a Joint Venture Partnership with NTIS to assist Federal agencies to develop and implement innovative ways to collect, connect, access, analyze, or use Federal data and data services.

DATES: Proposals are due on or before 11:59 p.m. Eastern Time on August 1, 2016. An informational session and webinar is scheduled at 9:00 a.m. Eastern Time on Thursday, July 7, 2016.

ADDRESSES: Proposers must submit their written submissions electronically with the subject line “Opportunity to Enter into a Joint Venture Partnership with the National Technical Information Service for Data Innovation Support” via email to OpportunityAnnouncement@ntis.gov with an email copy to Kenyetta Haywood at khaywood@ntis.gov. If you plan to participate in the informational session and webinar, send an email to OpportunityAnnouncement@ntis.gov, subject line: “Informational Session and Webinar Attendance Request for the Opportunity to Enter into a JVP with NTIS.” NTIS will provide registration information by email together with information on location and site access for those planning to attend in person. The venue for the in-person informational session will be either in Washington DC or at NTIS offices in Alexandria, VA.

FOR FURTHER INFORMATION CONTACT: Don Hagen at 703-605-6142, or by email at dhagen@ntis.gov.

SUPPLEMENTARY INFORMATION:

I. Introduction/Background

NTIS, an agency of the U.S. Department of Commerce, is seeking proposals from potential joint venture partners (JVPs) that can work with NTIS to assist Federal agencies to improve access, data interoperability, search, or use of Federal data and data services to drive innovation and business outcome. Activities conducted by joint ventures may include: (1) Designing, testing, analyzing, or demonstrating the application of Federal data and data services, either alone or in combination with non-Federal data; (2) leveraging the private sector's knowledge and expertise in managing data and data sets, including data collection by the Federal government; (3) facilitating the creation, based on Federal data or the use of Federal data in some combination with non-Federal data, of suites of products, platforms, and services that meet the needs of businesses, innovators, government agencies, and others; or (4) otherwise enhancing data discovery and usability, data interoperability and standards, data analytics and forecasting, or data infrastructure and security. These activities support several federal priorities for the Data Economy such as Big Data, Open Data, Open Access, Cyber-Physical Systems, Smart Cities, and Internet-of-Things.

The business opportunities described in this notice are joint ventures, which require investments by partners and may provide a revenue-sharing opportunity. NTIS has statutory authority to operate as a permanent clearinghouse of scientific, technical, and engineering information and to collect and disseminate such information, codified in chapter 23 of title 15 of the United States Code (15 U.S.C. 1151-1157), specifically 15 U.S.C. 1152. Section 1153 of this chapter provides NTIS' authority to charge fees for its products and services and to recover all costs through such fees “to the fullest extent feasible.”

The authority was restated and expanded in the National Technical Information Act of 1988, codified at 15 U.S.C. 3704b. This act gave NTIS the authority to enter into joint ventures and declared the clearinghouse to be a permanent federal function that could not be eliminated or privatized without Congressional approval.

The National Technical Information Act of 1988 was amended by the American Technology Preeminence Act of 1991 (Pub. L. 102-245), which directed NTIS to focus on developing new electronic methods and media for information dissemination.

In addition, following a rigorous review of NTIS mission and operations, the Secretary of Commerce set a new strategic direction for NTIS in May 2015 that will meet a 21st Century national need: To promote the Commerce Department's and Federal data priorities, including Open Access and Open Data.

The new strategic direction for NTIS is aligned with the Commerce Department's Data Goal, which is one of five goals in the Department's Strategic Plan. The Department collects, stores, and analyzes a wealth of information, including data on the Nation's economy, population, and environment. These data are at the core of the Department's mission, and are used to protect life and property and to grow the economy. Businesses use the Department's data to make investment and hiring decisions. State and local governments mine the Department's data to warn of coming danger, position first-responders, and construct high-tech classrooms. The Federal Government uses the Department's data to allocate funds and to make critical decisions on fiscal and monetary policy. As “America's Data Agency,” ¹ the Department of Commerce is using its data to spur innovation inside and outside the Federal Government and promote greater prosperity across the country.

¹ America is Open for Business, Strategic Plan FY 2014-2018, Version 1.1, U.S. Department of Commerce, 2015. (https://www.commerce.gov/sites/commerce.gov/files/media/files/2014/doc_fy2014-2018_strategic_plan.pdf).

The potential economic value of Federal Government data is significant. In a 2014 report,² the Department of Commerce's Economics and Statistics Administration estimated that Federal Government data have the potential to guide up to $3.3 trillion in investments in the United States annually. The report estimated that the Decennial Census and American Community Survey data alone guide $400 billion in federal spending annually. The report also states that 28 Federal Government programs which distribute more than $300 billion annually use regional income and product estimates from the Bureau of Economic Analysis, derived from Department data. Further the report finds that government data-intensive private firms generate annual revenues with an upper estimate as high as $221 billion.

² Fostering Innovation, Creating Jobs, Driving Better Decisions: The Value of Government Data, U.S. Department of Commerce, Economics and Statistics Administration, July 2014. (http://esa.gov/sites/default/files/revisedfosteringinnovationcreatingjobsdrivingbetterdecisions-thevalueofgovernmentdata.pdf.)

There are different data types, standards, methodologies, Web sites, architectures, platforms, and formats that make it difficult to access, analyze, and use data. Few people know the extent of Commerce's or other Federal Government data sets, and even fewer know how to build innovative, useful tools from them. Partnering with the private sector will allow NTIS to leverage industry knowledge and expertise in delivering data to end users. Joint venture partnerships will also increase the capacity of NTIS to develop and disseminate data in common standards and architectures that will make it easier for the public to access, analyze, and use the data, either alone or in combination with non-Federal data.

It is at the intersection between the Federal agencies and the private sector where NTIS will deliver exceptional value by serving as a center of excellence in meeting a 21st Century national need. NTIS may enter into Joint Ventures to enable partnerships involving the Commerce Department or its Bureaus, or other Federal agencies. Specifically, NTIS will accelerate (1) private sector use of government data, either alone or in combination with non-Federal data, to develop and use new and improved data products and services, and (2) government use of data to improve the effectiveness and efficiency of programs. NTIS will remain a self-supporting agency without federal appropriations that recovers its operating costs from fees and the use of the NTIS Revolving Fund. 15 U.S.C. 1153 and 3704b note.

II. General Scope

Technical Requirements

Proposals must address at least one of the following areas of innovation. The proposer must explicitly state in the proposal which area(s) are addressed.

1. Providing innovations in the use of data and data services. The proposal must include a description of how the proposer would contribute innovations in the use of data and data services and the resources, such as staff, partnerships, contracts, other technologies, they would use to achieve these innovations. The proposal should also provide examples of prior instances of similar innovative work conducted by the proposer. The scope of this area includes data science and engineering innovations associated with (a) making it easier to use data, and (b) combining, analyzing and using data, either alone or in combination with non-Federal data, in new ways, and (c) data infrastructure and security such as advancements for data inventories, data capture, cloud-based data solutions, cybersecurity, and assistive technologies.

2. Providing new, more effective and/or efficient methods for sharing data. The proposal must include a description of how the proposer would improve data sharing and provide examples where applicable. The proposal must include a description of the resources, such as staff, partnerships, contracts, and other technologies, the proposer would use to achieve these innovations. The scope of this area includes data science and engineering innovations associated with (a) data discovery and usability such as search engine optimization, interactive visualization and query management, and user analytics, (b) data interoperability and standards such as data cleansing, metadata practices, application programming interfaces, and developer platforms, and (c) simplifying and streamlining delivery of data services.

3. Advancing ways to analyze, interpret, and understand data as well as apply it in meaningful ways. The proposal must describe how the proposer would use technologies, processes and techniques to improve the analysis, interpretation, understanding, and application of data and provide examples where applicable. The proposal must include a description of the resources, such as staff, partnerships, contracts, and other technologies, the proposer would use to achieve these innovations. The scope of this area includes data science and engineering innovations associated with data analytics and forecasting such as data visualization, geospatial analysis, comparative and predictive analytics, and statistical methods.

4. Developing technologies, techniques, and processes that can lead to deep understanding from and new insights into data. The proposal must include a description of how the proposer would significantly improve the value of data, how such deep understanding and new insights may be applied and the potential benefits and impacts of these innovations. The proposal must include a description of the resources, such as staff, partnerships, subcontracts, and other technologies, the proposer would use to achieve these innovations. The scope of this area includes data science and engineering innovations associated with data analytics and forecasting such as machine learning, cognitive analytics, artificial intelligence, and other computer science advancements. The proposal may focus on data from the Federal Government alone, or in combination with non-Federal data.

NTIS pursues joint ventures as a means of improving access to, or analysis, collection, or use of Federal data and data services, either alone or in combination with non-Federal data, that can be best developed and delivered through the combined resources of NTIS and one or more joint venture partners. The NTIS joint venture program is focused on (1) making it easier to collect, access, analyze, and use data; (2) combining and using data in new ways; (3) leveraging advances in data science, software development, and standards; and (4) simplifying and streamlining delivery of data services. NTIS joint venture projects involve innovation, speedy execution, and one or more of the following attributes: (a) First or early use of emerging technology, (b) complexity of solution architecture, interoperability, and/or security; (c) agile applications development and systems operations which require adaptive scoping; and/or (d) custom solutions to meet unique requirements without commercial-off-the-shelf solutions.

The NTIS joint venture partnership program enables NTIS to structure joint venture partnership agreements and Federal agency agreements that offer the best combination of speed and performance for delivering innovative data services or systems. NTIS manages joint venture projects in a highly flexible, interactive, and collaborative manner with its customer Federal agencies and joint venture partners.

As NTIS operates on a cost-recovery basis, proposals should address proposed business terms for revenue sharing between NTIS and the proposed joint venture partner. Proposals should demonstrate the benefits of collaboration between the proposed joint venture partner and NTIS.

Joint ventures are not procurements and do not result in contracts under the Federal Acquisition Regulation (FAR). Joint ventures involve the investment of resources by NTIS and its partners, with a formal agreement for the sharing of resources associated within the venture. Both the joint venture partner and NTIS will share opportunities for potential returns in the form of revenue from projects with other Federal agencies. NTIS envisions separate joint venture partnership(s) with multiple organizations. The joint venture partnership(s) will provide data services that allow customer federal agencies to further their missions rapidly in innovative and creative ways by enabling businesses, government agencies, and the public to access, analyze, collect, synthesize, disseminate, or use data.

NTIS will provide data services that support the development of solutions with its joint venture partners. NTIS will also provide technical guidance and oversight for joint venture partnerships.

NTIS will enter into joint venture agreements in accordance with all relevant provisions of applicable federal laws. Any proposal that has the appearance of circumventing FAR or other agency acquisition requirements will be determined to be non-responsive to this Opportunity Announcement during the initial phase of the selection process and will not be considered further.

Proposers must acknowledge and address the following in their proposals:

• Data received from a Federal agency and from non-Federal organizations as part of a project performed by NTIS with a joint venture partner may only be accessed and utilized for project purposes consistent with all applicable statutory and regulatory protections and all relevant agreements.

• Federal agencies and private sector organizations that provide data as part of a project performed by NTIS with a joint venture partner will retain ownership of the data rights. Federal agencies and private sector organizations may be requested to provide licenses to use the data for the purposes of a project.

• Systems, programs and applications included in the proposal must comply with the documented security assessment and authorization (A&A) policies issued by the Office of Management and Budget (OMB), standards and guidance issued by National Institute of Standards and Technology (NIST), and the Federal Information Security Management Act of 2002 (FISMA) before the systems, programs and applications are offered to Federal agencies under a joint venture partnership.

• Proposers must have the ability to accept electronic fund transfers.

• NTIS will not guarantee that any revenue will be generated for the joint venture partner merely by entering into a joint venture partnership with NTIS.

• Proposers must have the ability to fund their portion of any projects commenced pursuant to a joint venture partnership agreement for a period of time, which may differ on individual projects, due to federal accrual accounting practices. NTIS does not allow (and has never offered) financial incentives in entering into joint venture partnership agreements. NTIS will not provide advance payments to joint venture partners.

III. Requested Response

NTIS seeks to enter into joint venture partnerships with one or more partners to assist Federal agencies further their missions in innovative and creative ways by enabling businesses, government agencies, and the public with improved access to, or analysis, collection, or use of Federal data and data services, either alone or in combination with non-Federal data. NTIS provides data services for speedy execution of innovative projects, typically involving one or more of the following attributes: (a) First or early use of emerging technology; (b) complexity of solution architecture, interoperability, and/or security; (c) agile applications development and systems operations which require adaptive scoping; or (d) custom solutions to meet unique requirements without commercial-off-the-shelf solutions.

Proposers are encouraged to include proposed teams of more than one private sector organization, including small and medium enterprises and start-ups. Proposals should describe any proposed teaming arrangements, including the relationships among the parties, how the team would function, and how the team may be augmented to fill missing capabilities. NTIS will evaluate each proposal and may solicit oral presentations from some or all proposers. Upon entering into a JVP agreement, NTIS expects the proposed services to be available solely to Federal agencies and only through agreements between NTIS and the customer Federal agencies.

Proposal Submission Information

a. The proposal is a word-processed document of no more than thirty (30) double-spaced pages responsive to the evaluation criteria set forth below. Any pages submitted beyond the 30-page limit will not be considered. Each proposal page layout should be 8.5 inches by 11 inches with 1-inch margins. The font for the proposal should be Times New Roman 12 point or similar font in readable size (no less than 10 point). All submissions must be made in electronic format and submitted to OpportunityAnnouncement@ntis.gov with a copy to Kenyetta Haywood at khaywood@ntis.gov. All proposals are subject to the False Claims Act, 31 U.S.C. 3729 and 18 U.S.C. 287, as well as the False Statements Act, 18 U.S.C. 1001. In accordance with Federal appropriations law, an authorized representative of the selected proposer(s) may be required to provide certain certifications regarding federal felony and federal criminal tax convictions, unpaid federal tax assessments, and delinquent federal tax returns.

Proposal Technical, Administrative and Business Information

The proposal must address each of the evaluation criteria set forth in the following section and should include all of the information set forth in this section. Each section of the proposal should include a brief title or description of its content.

(1) The proposal must include a technical plan that identifies and describes the technical capabilities of the proposed joint venture partner and its team. The proposal must include (a) a description of technical capabilities in each area of data innovation that the joint venture partner and its team will address, (b) examples of up to three major projects where the proposed joint venture partner and, where applicable, its team have demonstrated data innovations using the technical capabilities; if the joint venture partner and, where applicable, its team, have not conducted projects in which they have demonstrated data innovations using the technical capabilities, they should include instead a description of how they would go about doing so, and (c) a description of the professional accomplishments, skills, certifications, and training of the personnel proposed to provide the technical capabilities and perform the work proposed in the proposal, including each individual whose innovative technical capabilities are critical to the development or execution of joint venture projects in a substantive and measurable way. This information will be considered against evaluation criteria 1, 2 and 3 below.

(2) The proposal must include a business plan that identifies and describes how services may be offered through NTIS via a joint venture partnership. The proposal must include a short description of how the proposer and NTIS could jointly develop and deliver the proposed technical capabilities to Federal agency customers. The proposal also must address why and how the proposed capabilities will result in innovative data applications, data delivery, or data collection based on advances in data science, engineering, or best practices. This information will be considered against evaluation criteria 1, 2 and 4 below.

(3) The proposal may include any other information that the proposer thinks will assist reviewers in their evaluation of the proposal against the evaluation criteria described below.

To the extent permitted by law, including the Freedom of Information Act (FOIA), 5 U.S.C. 552, NTIS will not disclose confidential or proprietary information provided and clearly marked in any proposal submitted in response to this notice without providing the organization that submitted such information the opportunity to object to the potential release of the information. If NTIS receives a request for disclosure of confidential information, it will promptly notify the submitting organization in writing and give it an opportunity to demonstrate that NTIS should withhold the information in accordance with Department of Commerce FOIA regulations (15 CFR part 4).

Evaluation Criteria

The evaluation criteria for the proposals are as follows:

(1) Rationality (0-25 Points)

The logic and soundness of the proposer's approach to provide innovations that are relevant to NTIS and other Federal agencies in one or more of the following areas: (a) Using data and data services; (b) sharing and enhancing the usability of data and data services; (c) advancing the analysis and interpretation of data; and (d) developing deep understanding from and new insights into data.

(2) Technical Merit of Contribution (0-35 Points)

The potential technical effectiveness of the proposed capabilities and work and the value it would contribute to the fields of data science, engineering, or best practices relevant to NTIS as described in the General Scope section of this announcement.

(3) Qualifications of Technical Personnel (0-25 Points)

The professional accomplishments, skills, certifications, and training of the personnel proposed to provide the technical capabilities and perform the work proposed in the proposal, including all individuals whose innovative technical capabilities are critical to the development or execution of joint venture projects in a substantive and measurable way as identified in the proposal.

(4) Resources Availability (0-15 Points)

The extent to which the proposer has access to the necessary equipment, tools, and facilities and overall support and resources to accomplish proposed objectives and work jointly with NTIS to accomplish project goals.

Evaluation and Selection Process

All proposals received by the due date set forth in the DATES section of this notice will be reviewed to determine whether they are submitted by a for-profit, non-profit, or research performing service organization (eligible), contain all required technical, business and administrative information (complete), and are responsive to this Opportunity Announcement. Proposals determined to be ineligible, incomplete, and/or non-responsive based on the initial screening will be eliminated from further review. However, NTIS, in its sole discretion, may continue the review process for a proposal that is missing non-substantive information that can easily be rectified or cured.

All proposals that are determined to be eligible, complete, and responsive will proceed for full reviews in accordance with the review and selection process set forth below. At least three (3) objective individuals knowledgeable about the particular technical areas described in the proposal will review the merits of each proposal based on the evaluation criteria. The reviewers may discuss the proposals with each other, but scores will be determined on an individual basis, not as a consensus. NTIS may solicit oral presentations from some or all proposers.

The Selecting Official, who is the NTIS Deputy Director or designee, in consultation with the NTIS Director and the NTIS Oversight Board, will make final proposal selections, taking into consideration the results of the reviewers' evaluations, relevance to the scope and objectives described in this Opportunity Announcement, the distribution of proposals across technical areas, and the distribution of proposers among large, medium and small organizations. The NTIS Oversight Board is a group of senior Department of Commerce executives, appointed by the Under Secretary of Commerce for Standards and Technology, to guide the evolution of NTIS toward a focus on the Department of Commerce's data mission and transition away from services not aligned with the Department's and/or Federal data priorities. For proposals from international organizations, NIST will follow applicable U.S. laws and policies.

Notification of Results

Unsuccessful proposers will be notified in writing. Proposers whose proposals are selected will be notified and will be provided with the standard NTIS Joint Venture Partnership agreement for execution. Each Joint Venture Partnership agreement entered into between a selected proposer and NTIS will incorporate the selected proposer's proposal by reference. NTIS will not be responsible for any costs incurred by any proposer prior to execution of a Joint Venture Partnership agreement.

Dated: June 9, 2016.
Gregory Capella,
Deputy Director, National Technical Information Service.

[FR Doc. 2016-14175 Filed 6-14-16; 8:45 am]

BILLING CODE 3510-04-P